ENVIRONMENTAL PROTECTION AGENCY

40 CFR Part 52

[KY130-200117(b); FRL-7036-7]

Approval and Promulgation of Implementation Plans, Commonwealth of Kentucky: Approval of Revisions to the 1-Hour Ozone Maintenance State Implementation Plan (SIP) for Marshall and a Portion of Livingston Counties

AGENCY: Environmental Protection Agency (EPA).

ACTION: Proposed rule.

SUMMARY: EPA is proposing to approve revisions to the 1-hour ozone maintenance state implementation plan for Marshall and a portion of Livingston Counties, Kentucky (i.e., the Paducah area), submitted on June 14, 2001, by the Commonwealth of Kentucky through the Natural Resources and Environmental Protection Cabinet to correct/revise the original motor vehicle emissions budgets approved by EPA effective April 10, 1995 (60 FR 7124). In the Final Rules section of this Federal Register, EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. EPA will not institute a second comment period on this document. Any parties interested in commenting on this document should do so at this time.

DATES: Written comments must be received on or before September 19, 2001.

ADDRESSES: All comments should be addressed to: Mr. Richard A. Schutt, Chief, Regulatory Planning Section, EPA, Region 4, 61 Forsyth Street, SW, Atlanta, Georgia 30303.

Copies of the State submittal(s) are available at the following addresses for inspection during normal business hours:

Environmental Protection Agency, Region 4, Air Planning Branch, 61 Forsyth Street, SW, Atlanta, Georgia 30303-8960. Contact: Mr. Richard A. Schutt, (404) 562-9033, schutt.dick@epa.gov.

Commonwealth of Kentucky Natural Resources and Environmental Protection Cabinet, Department for Environmental Protection, Division for Air Quality, 803 Schenkel Lane, Frankfort, Kentucky 40601, (502) 573-3382.

FOR FURTHER INFORMATION CONTACT: Mr. Richard A. Schutt, (404) 562-9033, schutt.dick@epa.gov.

SUPPLEMENTARY INFORMATION: For additional information see the direct final rule which is published in the Rules section of this Federal Register.

Dated: August 3, 2001.
Russell Wright,
Acting Regional Administrator, Region 4.

[FR Doc. 01-20785 Filed 8-17-01; 8:45 am]

BILLING CODE 6560-50-P